DEPARTMENT OF THE INTERIOR

Bureau of Land Management

[WY-920-1320-EM, WYW127221]

Federal Coal Lease Modification, WY

AGENCY: Bureau of Land Management, Interior.

ACTION: Notice of availability, notice of public hearing and request for public comment on the environmental assessment (EA) for the Modification of Federal Coal Lease WYW127221 at the North Rochelle Mine operated by Triton Coal Company LLC, in Campbell County, WY.

SUMMARY: Pursuant to the National Environmental Policy Act (NEPA) and implementing regulations and other applicable statutes, the Bureau of Land Management (BLM) announces the availability of the Environmental Assessment (EA) for the Modification of Federal Coal Lease WYW127221 at the North Rochelle Mine in the Wyoming Powder River Basin, and announces the scheduled date and place for a public hearing pursuant to 43 CFR part 3432, 3425.3 and 3425.4. The EA addresses the impacts of modifying this Federal coal lease and mining the modification area as a part of the North Rochelle Mine operated by Triton Coal Company LLC, in Campbell County, WY. The purpose of the hearing is to solicit public comments on the EA, the fair market value (FMV), the maximum economic recovery (MER), and the proposed noncompetitive offer of the coal included in the proposed lease modification. This lease modification is being considered for offer as a result of a request received from Triton Coal Company LLC, on February 9, 2001. The tract as requested includes about 155.899 acres containing approximately 13 million tons of Federal coal reserves.

DATES: A public hearing will be held at 7 p.m. MDT, on May 30, 2002 at the BLM, Casper Field Office, 2987 Prospector Drive, Casper, WY. Written comments will be accepted for 30 days from the date this notice is published.

ADDRESSES: Please address questions, comments or requests for copies of the EA to the BLM, Casper Field Office, Attn: Mike Karbs, 2987 Prospector Drive, Casper, WY 82604; or you may e-mail them to the attention of Mike Karbs at casper_wymail@blm.gov; or fax them to (307) 261-7587.

FOR FURTHER INFORMATION CONTACT: Mike Karbs or Nancy Doelger at the above address, or phone: 307-261-7600.

SUPPLEMENTARY INFORMATION: The BLM, Casper Field Office has received a request to modify an existing Federal coal lease at the North Rochelle Mine. This mine is operated by Triton Coal Company LLC, and is located in Campbell County, WY, approximately 12 miles southeast of Wright. On February 9, 2001, Triton Coal Company, LLC filed an application with the BLM to modify Federal lease WYW127221 by adding the following lands:

T. 42 N., R. 70 W., 6th PM, Wyoming

Section 4: Lot 17 (N½, N½S½); Lot 18 (N½, N½S½),

Section 5: Lot 17 (N½); Lot 18 (N½,); Lot 19 (N½, N½S½); Lot 20 (N½, N½S½).

This tract is adjacent to Triton Coal Company's North Rochelle Mine and includes 155.899 acres more or less with an estimated 13 million tons of coal. This application was filed as a lease modification under the provisions of 43 CFR part 3432.

The proposed modification area lies between Federal coal lease WYW127221 and the Reno county road right-of-way. Based on the latest mine plan for the North Rochelle mine, coal removal on the lease modification area will occur in conjunction with the existing lease beginning in 2003 and completed by 2010. The coal removal is consistent with the currently approved resource recovery and protection plan for the North Rochelle mine and the North Rochelle mining permit amendment application pending before the Wyoming Department of Environmental Quality, Land Quality Division (WDEQ/LQD).

If the lease is modified, the mining and reclamation permit would be modified to include coal recovery from the lease modification area. The modification would allow for the maximum coal that could be recovered using the surface methods planned for the mine and would allow for lateral support and protection of the Reno county road right-of-way. The Federal coal in this modification would be recovered in conjunction with the existing lease. Recovery of these reserves will add to Federal and State royalty and tax revenues and will contribute to the economy in this area.

BLM believes that there is no current competitive interest in the lands proposed for lease modification; although as noted above, this area could be recovered as part of a later competitive coal lease tract, but that may or may not occur. This lease modification would not reduce the competitive value of a later competitive coal lease tract. Under the lease modification process, the modified lands would be added to the existing lease without competitive bidding. Before offering the lease modification the BLM will prepare an appraisal of the FMV of the lease. The U.S. would receive FMV of the lease for the added lands.

The proposed lease modification is within the mine permit area of the North Rochelle Mine. No new facilities or employees would be needed to mine the coal. Haul distances would not be increased. If production at the North Rochelle Mine continues at the current rate, the 13 million tons of coal included in the proposed lease modification would represent about six to eight months of production. The lands were studied under the National Environmental Policy Act of 1969 (NEPA) as part of the Draft and Final Environmental Impact Statement (EIS) for the North Rochelle Coal Lease Application (BLM 1997), as well as several earlier NEPA analyses. If this tract is modified into the current lease, the new lands must be incorporated into the existing mining plans for the North Rochelle Mine. The Office of Surface Mining Reclamation and Enforcement (OSM) is a cooperating agency in the preparation of the environmental document because it is the Federal agency that is responsible for any required actions necessary to incorporate these lands into the current mining plan.

BLM conducted scoping during late May and June 2001, soliciting specific concerns that should be considered in processing this modified lease application, with scoping comments accepted through June 30, 2001. A NEPA analysis addressing issues identified or information received during this scoping period for the proposed lease modification was completed and distributed to the public on July 31, 2001. There was a 30-day comment period on the NEPA analysis, with comments accepted until August 31, 2001. A public hearing was held on August 14, 2001, at the Clarion Western Plaza Hotel in Gillette, WY, to solicit public comment on the NEPA analysis, the proposed modification, and the fair market value and maximum economic recovery of coal in the proposed tract. The EA addresses all the issues and information received as a result of the scoping and the review of the NEPA analysis as well as a notice of appeal on this modification filed by Independent Production Company on November 2001. In addition to preparing the EA, BLM will also develop possible stipulations regarding mining operations, determine the FMV of the tract, and evaluate MER of the coal in the proposed tract while processing this lease modification.

Comments on the EA, the FMV, the MER, and the proposed noncompetitive offer of the coal included in the proposed lease modification, as well as comments already received, including names and street addresses of respondents, will be available for public review at the address below during regular business hours (7:45 a.m.-4:30 p.m.), Monday through Friday, except holidays. Individual respondents may request confidentiality. If you wish to withhold your name or street address from public review or from disclosure under the Freedom of Information Act, you must state this prominently at the beginning of your written comment.

Such requests will be honored to the extent allowed by law. All submissions from organizations or businesses, and from individuals identifying themselves as representatives or officials of organizations or businesses, will be made available for public inspection in their entirety.

Dated: March 28, 2002.
Phillip C. Perlewitz,
Chief, Branch of Solid Minerals.

[FR Doc. 02-10432 Filed 4-26-02; 8:45 am]

BILLING CODE 4310-22-P